DEPARTMENT OF HEALTH AND HUMAN SERVICES

National Institutes of Health

Public Comment Session for Cancer Patients' CAM Information Needs Comment Period

AGENCY: National Cancer Institute (NCI), National Institutes of Health (NIH), Department of Health and Human Services (HHS).

ACTION: Request for public comment.

SUMMARY: In compliance with the provisions of Section 3506(c)(2)(A) of the Paperwork Reduction Act of 1995, for opportunity for public comments on proposed data collection projects, the National Institutes of Health (NIH), National Cancer Institute (NCI) will publish periodic summaries of proposed projects to be submitted to the Office of Management and Budget (OMB) for review and approval.

DATES: The Public Comment Session for Patients' CAM Information Needs public comment period will run from April 1, 2009 through May 30, 2009.

ADDRESSES: Comments may be submitted electronically at http://www.cancer.gov/cam.

Background: Title: Public Comment Session for Patients' CAM Information Needs. Type of Information Collection Request: New. Need and Use of Information Collection: The National Cancer Institute's Office of Cancer Complementary and Alternative Medicine (OCCAM) strives to increase the amount of high-quality information on cancer and complementary and alternative medicine (CAM) available for cancer patients and their families. We would like to better understand CAM information needs from the viewpoints of cancer patients and health professionals who regularly interact with and serve cancer patients.

Request for Comments: Written comments and/or suggestions from the public and affected agencies are invited on one or more of the following points: (a) Common issues, topics, or themes that emerge when discussing CAM with patients; (b) specific CAM therapies asked about most frequently; (c) ways media stories about CAM affect cancer patients; (d) resources patients use to get information about CAM; (e) common myths or misinformation patients have about CAM; and (f) cancer CAM information resources or services that NCI should provide to cancer patients.

Dated: March 16, 2009.
Shea Buckman,
NCI OCCAM Communications and Outreach Manager, National Institutes of Health.

[FR Doc. E9-6591 Filed 3-24-09; 8:45 am]

BILLING CODE 4140-01-P